DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC), announces the following meeting of the aforementioned review group:

Times and Date:

1 p.m.-1:10 p.m., May 3, 2010 (Open).

1:10 p.m.-2:30 p.m., May 3, 2010 (Closed).

Place: Teleconference.

Toll Free: 877-468-4185 Passcode: 2371296.

Status: A portion of this meeting will be closed to the public in accordance with provisions set forth in Section 552b(c)(4) and (6), Title 5, U.S.C., and the Determination of the Director, Management Analysis and Services Office, CDC, pursuant to Section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies, to conduct specific injury research that focuses on prevention and control.

Matters To Be Discussed: The meeting will include the reporting and voting of the peer reviews conducted in response to Fiscal Year 2010 Requests for Applications related to the following individual research announcements: (1) CE 10 001 Preventing Unintentional Childhood Injuries (R21); (2) CE 10 002 Unintentional Poisoning from Prescription Drug Overdoses in Adults (R21); (3) CE 10 003 Research Priorities in Acute Injury Care (R01); (4) CE 10 005 Research Grants for Preventing Violence and Violence-Related Injury (R01) Agenda items are subject to change as priorities dictate.

FOR FURTHER INFORMATION CONTACT: Adele Childress, PhD, Acting Director, Extramural Research Program Office, National Center for Injury Prevention & Control and Executive Secretary, NCIPC IRG, CDC, 4770 Buford Highway, NE, M/S F-63, Atlanta, Georgia 30341, telephone 770-488-4233.

The Director, Management Analysis and Services Office has been delegated the authority to sign Federal Register notices pertaining to announcements of meetings and other committee management activities for both CDC and the Agency for Toxic Substances and Disease Registry.

Dated: April 12, 2010.
Elaine L. Baker,
Director, Management Analysis and Services Office, Centers for Disease Control and Prevention.

[FR Doc. 2010-8731 Filed 4-15-10; 8:45 am]

BILLING CODE 4163-18-P